DEPARTMENT OF DEFENSE

Department of the Air Force

32 CFR Part 813

[Docket ID: USAF-2018-HQ-0009]

RIN 0701-AA86

Visual Information Documentation Program

AGENCY: Department of the Air Force, DoD.

ACTION: Final rule.

SUMMARY: This final rule removes the Department of the Air Force's regulation concerning the Visual Information Documentation Program. The part prescribes internal Air Force procedures and command responsibilities, and it is unnecessary.

DATES: This rule is effective on February 21, 2019.

FOR FURTHER INFORMATION CONTACT: David M. Steele, 703-692-4427.

SUPPLEMENTARY INFORMATION: It has been determined that seeking public comment on the removal of this CFR part is impracticable, unnecessary, and contrary to public interest since it is based on removing publicly available internal Air Force policies and procedures. The Air Force internal policies and procedures are available on the Air Force's online publication site (http://www.e-publishing.af.mil/).The newest instructions, AFI 35-101, Public Affairs, dated January 12, 2016, and AFI 35-109, Visual Information, June 1, 2017, provide the Air Force with needed internal guidance in regards to the VI documentation program. Additionally, DoD Instructions 5040.02, Visual Information (VI) (http://www.esd.whs.mil/Portals/54/Documents/DD/issuances/dodi/504002p.pdf?ver=2018-04-23-085110-153), and DoD Instruction 5040.07, Visual Information (VI) Productions (http://www.esd.whs.mil/Portals/54/Documents/DD/issuances/dodi/504007p.pdf), and CJCS Instruction 3205.01D, Joint Combat Camera (COMCAM) (http://www.jcs.mil/Portals/36/Documents/Library/Instructions/3205_01.pdf?ver=2016-02-05-175023-000) provide overarching guidance.

This rule is not significant under Executive Order (E.O.) 12866, “Regulatory Planning and Review,” therefore, E.O. 13771, “Reducing Regulation and Controlling Regulatory Costs” does not apply.

List of Subjects in 32 CFR Part 813

Archives and records, Motion pictures.

PART 813—[REMOVED]

Accordingly, by the authority of 5 U.S.C. 301, 32 CFR part 813 is removed.

Henry Williams,
Acting Air Force Federal Register Liaison Officer.

[FR Doc. 2019-02947 Filed 2-20-19; 8:45 am]

BILLING CODE 5001-10-P